DEPARTMENT OF DEFENSE

Department of the Navy

Notice of Intent To Grant Partially Exclusive License to Autoliv Inc.; Correction

AGENCY: Department of the Navy, DoD.

ACTION: Notice; Correction.

SUMMARY: The Department of the Navy published a notice in the Federal Register of March 16, 2005, announcing intent to grant a partially exclusive license with Autoliv, Inc. The notice contained an incorrect type of license to be granted and an incorrect company name.

FOR FURTHER INFORMATION CONTACT: Dr. J. Scott Deiter, Head, Technology Transfer Office, Naval Surface Warfare Center Indian Head Division, Code CAB, 101 Strauss Avenue, Indian Head, MD 20640-5035, telephone 301-744-6111.

Correction

In the Federal Register of March 16, 2005, Vol. 70, on page 12855, in the third column, correct the subject heading to read:

Notice of Intent To Grant Non-Exclusion License; Autoliv ASP, Inc.

Correct the SUMMARY caption to read:

The Department of the Navy gives notice of its intent to grant Autoliv ASP Inc., a revocable, nonassignable, non-exclusive license, in the field of use in airbag inflators, in the United States to practice the Government-Owned invention, U.S. Patent Number 6,562,160 B2 entitled “Airbag Propellant.”

Dated: March 25, 2005.
I. C. Le Moyne Jr.,
Lieutenant, Judge Advocate General's Corps, U.S. Navy, Alternate Federal Register Liaison Officer.

[FR Doc. 05-6453 Filed 3-31-05; 8:45 am]

BILLING CODE 3810-FF-P